DEPARTMENT OF HEALTH AND HUMAN SERVICES

Centers for Disease Control and Prevention

Disease, Disability, and Injury Prevention and Control Special Emphasis Panel (SEP): Study Effect of West Nile Virus Infections on Outcomes of Pregnancy in Humans, Program Announcement 04213

In accordance with Section 10(a)(2) of the Federal Advisory Committee Act (Pub. L. 92-463), the Centers for Disease Control and Prevention (CDC) announces the following meeting:

Name: Disease, Disability, and Injury Prevention and Control Special Emphasis Panel (SEP): Study Effect of West Nile Virus Infections on Outcomes of Pregnancy in Humans, Program Announcement 04213.

Times and Dates: 10:30 a.m.—11:10 a.m., August 10, 2004 (Open); 11:30 a.m.—2:30 p.m., August 10, 2004 (Closed).

Place: Teleconference number (404) 498-4115.

Status: Portions of the meeting will be closed to the public in accordance with provisions set forth in Section 552b(c) (4) and (6), Title 5 U.S.C., and the Determination of the Director, Management Analysis and Services Office, CDC, pursuant to Public Law 92-463.

Matters To Be Discussed: The meeting will include the review, discussion, and evaluation of applications received in response to: Study Effect of West Nile Virus Infections on Outcomes of Pregnancy in Humans, Program Announcement 04213.

Contact Person for More Information: Esther Sumartojo, PhD, MSc, Acting Associate Director for Science and Public Health, National Center on Birth Defects and Developmental Disabilities, CDC, 1600 Clifton Road, Mailstop E-87, Atlanta, GA 30333, telephone 404-498-3072.

The Director, Management Analysis and Services Office, has been delegated the authority to sign Federal Register notices pertaining to announcements of meetings and other committee management activities, for both the CDC and the Agency for Toxic Substances and Disease Registry.

Dated: July 9, 2004.
Alvin Hall,
Director, Management Analysis and Services Office, Centers for Disease Control and Prevention (CDC).

[FR Doc. 04-16168 Filed 7-15-04; 8:45 am]

BILLING CODE 4163-18-P